DEPARTMENT OF AGRICULTURE

Forest Service

Glenn/Colusa Resource Advisory Committee

AGENCY: Forest Service, USDA.

ACTION: Notice of meeting.

SUMMARY: The Glenn/Colusa Resource Advisory Committee will meet in Willows, California. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is review and discuss existing projects, and review new proposals for additional projects.

DATES: The meeting will be held June 20, 2011 at 1:30 p.m.

ADDRESSES: The meeting will be held at Mendocino National Forest, Grindstone Ranger District Office, Black Butte and Snow Mountain Conference Rooms, located at 825 N. Humboldt, Willows, CA 95988. Written comments may be submitted as described under Supplementary Information.

All comments, including names and addresses when provided, are placed in the record and are available for public inspection and copying. The public may inspect comments received at Grindstone Ranger District, Stonyford Work Center, 5171 Stonyford-Elk Creek Rd., Stonyford, CA 95979. Please call ahead to 530-963-3128 to facilitate entry into the building to view comments.

FOR FURTHER INFORMATION CONTACT: Laurie L. Pearson, Visitor Information Assistant, and Glenn/Colusa R.A.C. Coordinator, Grindstone Ranger District, 530-963-3128, LLPearson@fs.fed.us.

Individuals who use telecommunication devices for the deaf (TDD) may call the Federal Information Relay Service (FIRS) at 1-800-877-8339 between 8 a.m. and 8 p.m., Eastern Standard Time, Monday through Friday. Requests for reasonable accommodation for access to the facility or proceedings may be made by contacting the person listed For Further Information.

SUPPLEMENTARY INFORMATION: The following business will be conducted: 1 Introductions, 2. Approval of Minutes, 3. RAC Admin. Updates, 4. Public Comment, 5. Voting on New Proposals, 6. Project Reviews, 7. Schedule Monitoring Field Trip, 8. General Discussion, 9. Meeting Schedule, 10. Adjourn.

Anyone who would like to bring related matters to the attention of the committee may file written statements with the committee staff before or after the meeting. The agenda will include time for people to make oral statements of three minutes or less. Individuals wishing to make an oral statement should request in writing by June 10, 2011 to be scheduled on the agenda. Written comments and requests for time for oral comments must be sent to Stonyford Work Center, Attn: Laurie L. Pearson, Glenn/Colusa R.A.C. Coordinator, PO Box 160, Stonyford, CA 95979, or by e-mail to LLPearson@fs.fed.us, or via facsimile to 530-963-3173.

Dated: June 1, 2011.
Eduardo Olmedo,
Designated Federal Official.

[FR Doc. 2011-15053 Filed 6-16-11; 8:45 am]

BILLING CODE 3410-11-P